SMALL BUSINESS ADMINISTRATION

[Disaster Declaration # 10515 and # 10516]

Pennsylvania Disaster Number PA-00004

AGENCY: Small Business Administration.

ACTION: Amendment 5.

SUMMARY: This is an amendment of the Presidential declaration of a major disaster for the Commonwealth of Pennsylvania (FEMA-1649-DR), dated 07/04/2006.

Incident: Severe Storms, Flooding, and Mudslides.

Incident Period: 06/23/2006 through 07/10/2006.

Effective Date: 07/14/2006.

Physical Loan Application Deadline Date: 09/05/2006.

EIDL Loan Application Deadline Date: 04/04/2007.

ADDRESSES: Submit completed loan applications to: U.S. Small Business Administration, National Processing and Disbursement Center, 14925 Kingsport Road Fort Worth, TX 76155.

FOR FURTHER INFORMATION CONTACT: A. Escobar, Office of Disaster Assistance, U.S. Small Business Administration, 409 3rd Street, SW., Suite 6050, Washington, DC 20416.

SUPPLEMENTARY INFORMATION: The notice of the Presidential disaster declaration for the Commonwealth of Pennsylvania, dated 07/04/2006 is hereby amended to include the following areas as adversely affected by the disaster:

Primary Counties: Bradford, Carbon, Luzerne.

Contiguous Counties:

Pennsylvania: Tioga;

New York: Chemung.

All other information in the original declaration remains unchanged.

(Catalog of Federal Domestic Assistance Numbers 59002 and 59008)

Cheri L. Cannon,
Acting Associate Administrator for Disaster Assistance.

[FR Doc. E6-11786 Filed 7-24-06; 8:45 am]

BILLING CODE 8025-01-P